LEGAL SERVICES CORPORATION

Notice of Funding Availability; Extension of Deadlines for SD-4 and NSD-1

AGENCY: Legal Services Corporation.

ACTION: Notice; extension of application deadline.

SUMMARY: The Legal Services Corporation (LSC) published a document in the Federal Register of March 12, 2025, informing the public about the availability of funding for 2026 Basic Field Grants. This document extends the Pre-Application and Application deadlines for the SD-4 and NSD-1 service areas.

DATES: LSC is extending the pre-application deadline to 11:59 p.m. ET on June 10, 2025, and the application deadline to 11:59 p.m. ET on June 20, 2025, for those two service areas.

FOR FURTHER INFORMATION CONTACT: Christine Williams, Program Manager for Basic Field Grant Competition, 202-295-1602, lscgrants@lsc.gov; or visit the LSC website at https://www.lsc.gov/grants/basic-field-grant.

SUPPLEMENTARY INFORMATION: In the Federal Register of March 12, 2025, 90 FR 11853, LSC announced the deadlines for interested organizations to apply for Basic Field Grant, including Basic Field-Native American, funds. LSC has determined that special circumstances exist under 45 CFR 1634.6(a) to authorize extending the pre-application and application deadlines for two service areas in the state of South Dakota, SD-4 and NSD-1.

(Authority: 42 U.S.C. 2996g(e).)

Dated: June 2, 2025.
Stefanie Davis,
Deputy General Counsel, Legal Services Corporation.

[FR Doc. 2025-10249 Filed 6-4-25; 8:45 am]

BILLING CODE 7050-01-P